DEPARTMENT OF HEALTH AND HUMAN SERVICES

Centers for Disease Control and Prevention

[30Day-24-0212]

Agency Forms Undergoing Paperwork Reduction Act Review

In accordance with the Paperwork Reduction Act of 1995, the Centers for Disease Control and Prevention (CDC) has submitted the information collection request titled “National Hospital Care Survey (NHCS)” to the Office of Management and Budget (OMB) for review and approval. CDC previously published a “Proposed Data Collection Submitted for Public Comment and Recommendations” notice on May 7, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies' estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Hospital Care Survey (NHCS) (OMB Control No. 0920-0212, Exp. 12/31/2024)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request for National Hospital Care Survey (NHCS) includes the collection of all inpatient and ambulatory Uniform Bill-04 (UB-04) claims data or electronic health record (EHR) data as well as the collection of hospital-level information via a questionnaire from a sample of 601 hospitals.

The National Ambulatory Medical Care Survey (NAMCS) was conducted intermittently from 1973 through 1985, and annually since 1989. The survey is conducted under authority of Section 306 of the Public Health Service Act (42 U.S.C. 242k). The National Hospital Discharge Survey (NHDS) (OMB No. 0920-0212, Exp. Date 01/31/2019), conducted continuously between 1965 and 2010, was the Nation's principal source of data on inpatient utilization of short-stay, non-institutional, non-Federal hospitals, and was the principal source of nationally representative estimates on the characteristics of inpatients including lengths of stay, diagnoses, surgical and non-surgical procedures, and patterns of use of care in hospitals in various regions of the country. In 2011, NHDS was granted approval by OMB to expand its content and to change its name to the National Hospital Care Survey (NHCS).

In May 2011, recruitment of sampled hospitals for the NHCS began. Hospitals in the NHCS are asked to provide data on all inpatients from their UB-04 administrative claims, or EHRs. Hospital-level characteristics and information about telemedicine usage in the healthcare setting are collected through an Annual Hospital Interview. NHCS will continue to provide the same national health-care statistics on hospitals that NHDS provided.

Additionally, NHCS collects more information at the hospital level (e.g., volume of care provided by the hospital), which allow for analyses on the effect of hospital characteristics on the quality of care provided. NHCS data collected from UB-04 administrative claims and EHRs include all inpatient discharges, not just a sample. The confidential collection of personally identifiable information allows NCHS to link episodes of care provided to the same patient in the Emergency Department (ED) and/or Outpatient Department (OPD) and as an inpatient, as well as link patients to the National Death Index (NDI) to measure post-discharge mortality, and Medicare and Medicaid data to leverage comorbidities. The availability of patient identifiers also makes analysis on hospital readmissions possible. This comprehensive collection of data makes future opportunities for surveillance possible, including analyzing trends and incidence of opioid misuse, acute myocardial infarction, heart failure and stroke, as well as trends and point prevalence of health care acquired infections and antimicrobial use.

Beginning in 2013, in addition to inpatient hospital data, hospitals participating in NHCS were asked to provide data on the utilization of health care services in their ambulatory settings (e.g., EDs and OPDs). Due to low response rates and high level of missing data, OPD data were not collected in the last approval period (2022, 2023 and 2024). Collection of OPD may resume in future years.

Data collected through NHCS are essential for evaluating the health status of the population, for the planning of programs and policy to improve health care delivery systems of the Nation, for studying morbidity trends, and for research activities in the health field. Changes to the data collection survey include the removal of COVID-19 questions from the Annual Hospital Interview (AHI). The burden hours have been reduced due to a decrease in the sample size. The new total annualized burden is 5,826 hours.

Estimated Annualized Burden Hours
Type of respondents | Form name | Number of respondents | Number of responses per respondent | Average burden per response (in hours)
Hospital DHIM or DHIT | Initial Hospital Intake Questionnaire | 123 | 1 | 1
Hospital CEO/CFO | Recruitment Survey Presentation | 30 | 1 | 1
Hospital DHIM or DHIT | Prepare and transmit UB-04 or State File for Inpatient and Ambulatory (Monthly) | 356 | 12 | 1
Hospital DHIM or DHIT | Prepare and transmit EHR for Inpatient and Ambulatory (Quarterly) | 200 | 4 | 1
Hospital CEO/CFO | Annual Hospital Interview | 601 | 1 | 1

Jeffrey M. Zirger,
Lead, Information Collection Review Office, Office of Public Health Ethics and Regulations, Office of Science, Centers for Disease Control and Prevention.

[FR Doc. 2024-16489 Filed 7-25-24; 8:45 am]

BILLING CODE 4163-18-P